SECURITIES AND EXCHANGE COMMISSION

[File No. 500-1]

Axcess International, Inc., Gamma Pharmaceuticals, Inc., Innovex, Inc, Knight Energy Corp., Komodo, Inc., Uphonia, Inc., and Wilson Brothers USA, Inc., Order of Suspension of Trading

September 12, 2013.

It appears to the Securities and Exchange Commission that there is a lack of current and accurate information concerning the securities of Axcess International, Inc. because it has not filed any periodic reports since the period ended September 30, 2010.

It appears to the Securities and Exchange Commission that there is a lack of current and accurate information concerning the securities of Gamma Pharmaceuticals, Inc. because it has not filed any periodic reports since the period ended September 30, 2009.

It appears to the Securities and Exchange Commission that there is a lack of current and accurate information concerning the securities of Innovex, Inc because it has not filed any periodic reports since the period ended July 4, 2009.

It appears to the Securities and Exchange Commission that there is a lack of current and accurate information concerning the securities of Knight Energy Corp. because it has not filed any periodic reports since the period ended September 30, 2008.

It appears to the Securities and Exchange Commission that there is a lack of current and accurate information concerning the securities of Komodo, Inc. because it has not filed any periodic reports since the period ended June 30, 2008.

It appears to the Securities and Exchange Commission that there is a lack of current and accurate information concerning the securities of Uphonia, Inc. because it has not filed any periodic reports since the period ended September 30, 2005.

It appears to the Securities and Exchange Commission that there is a lack of current and accurate information concerning the securities of Wilson Brothers USA, Inc. because it has not filed any periodic reports since the period ended September 30, 2004.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 12, 2013, through 11:59 p.m. EDT on September 25, 2013.

By the Commission.
Jill M. Peterson,
Assistant Secretary.

[FR Doc. 2013-22554 Filed 9-12-13; 4:15 pm]

BILLING CODE 8011-01-P